DEPARTMENT OF DEFENSE

Inspector General; Privacy Act of 1974; System of Records

AGENCY: Inspector General, DoD.

ACTION: Notice to add a system of records.

SUMMARY: The Inspector General, DoD is adding a system of records notice in its existing inventory of record systems subject to the Privacy Act of 1974, (5 U.S.C. 552a), as amended.

DATES: This proposed action is effective without further notice on August 1, 2002 unless comments are received which result in a contrary determination.

ADDRESSES: Freedom of Information Act Office, Office of the Inspector General, DoD, 400 Army Navy Drive, Arlington, VA 22202-4704.

FOR FURTHER INFORMATION CONTACT: Major Eric L. Kase, USAF, at (703) 604-9744.

SUPPLEMENTARY INFORMATION: The Inspector General, DoD, systems of records notices subject to the Privacy Act of 1974, (5 U.S.C. 552a), as amended, have been published in the Federal Register and are available from the address above.

The proposed system report, as required by 5 U.S.C. 552a(r) of the Privacy Act of 1974, as amended, was submitted on June 21, 2002, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: June 27, 2002.
Patricia L. Toppings,
Alternate OSD Federal Register Liaison Officer, Department of Defense.

CIG 19

System name:

Recall Roster/Locator Records.

System location:

Administration and Information Management Directorate, Office of the Inspector General of the Department of Defense, 400 Army Navy Drive, Arlington, VA 22202-4704 and at field offices of the OIG DoD, nationwide. Field office locations may be obtained by writing to the above location.

Categories of individuals covered by the system:

Civilian employees, military personnel and contractors assigned to the Inspector General of the Department of Defense (OIG, DoD).

Categories of records in the system:

Individual's name, organizational and home addresses, work/home/cellular telephone numbers, home e-mail account, and pager number (if applicable); emergency personnel rosters, contact listing files, organizational telephone directories, and listing of office personnel.

Authority for maintenance of the system:

5 U.S.C. 301, Departmental Regulations and DoD Directive 3020.26, Continuity of Operations Policy and Planning.

Purpose(s):

Information is being collected and maintained to ensure that the Office of the Inspector General, DoD, has the ability to recall personnel to place of duty when required, for use in emergency notification, and to perform relevant functions/requirements/actions consistent with managerial functions during an emergency/discovery.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal, state, or local governments or civic organizations during actual emergencies, exercises or continuity of operation tests for the purpose of responding to emergency situations.

The DoD ‘Blanket Routine Uses’ published at the beginning of the OIG DoD compilation of systems of records notices apply to this system.

Policies and practices for storing, retrieving, accessing, retaining, and disposing of records in the system:

Storage:

Records are stored on a computer client server and in paper form at each location.

Retrievability:

Retrieved by individual's name and by organization.

Safeguards:

Records are maintained in areas accessible only to OIG DoD personnel who must use the records to perform their duties. The computer files are password protected with access restricted to authorized users. Records are secured in locked or guarded buildings in locked offices, or locked cabinets during non-duty hours.

Retention and disposal;

Records are perpetual because individual records are deleted or added when the file is updated.

System manager(s) and address:

Director, Administration and Information Management, 400 Army Navy Drive, Arlington, VA 22202-4704.

Notification procedure:

Individuals seeking to determine whether information about themselves in contained in this system of records should address written inquiries to the Chief, Freedom of Information Act/Privacy Act Office, 400 Army Navy Drive, Arlington, VA 22202-4704.

Written requests should contain the individual's full name and work organization.

Record access procedures:

Individuals seeking access to records about themselves contained in this system of records should address written requests to the Chief, Freedom of Information Act/Privacy Act Office, 400 Army Navy Drive, Arlington, VA 22202-4704.

Written requests should contain the individual's full name and work organization.

Contesting record procedures:

The OIG's rules for accessing records and for contesting contents and appealing initial agency determinations are published in 32 CFR part 312 or may be obtained from the system manager.

Record source categories:

Official Personnel Folder and other information obtained from the subject individual.

Exemptions claimed for the system:

None.

[FR Doc. 02-16665 Filed 7-1-02; 8:45 am]

BILLING CODE 5001-08-P